DEPARTMENT OF ENERGY

Federal Energy Regulatory Commission

[Docket No. RP14-173-000]

Discovery Gas Transmission LLC; Notice of Technical Conference

Take notice that a technical conference will be held on Thursday, February 27, 2014, at 10:00 a.m., in a room to be designated at the offices of the Federal Energy Regulatory Commission, 888 First Street NE., Washington, DC 20426.

The purpose of the technical conference is to examine the issues raised with regard the November 15, 2013 filing made by Discovery Gas Transmission LLC (Discovery) wherein Discovery proposed to increase its Hurricane Mitigation and Reliability Enhancement Surcharge.¹

¹ See Discovery Gas Transmission LLC, 145 FERC ¶ 61,297 (2013).

Commission Staff and interested persons will have the opportunity to discuss all of the issues raised by Discovery's filing. Discovery should be prepared to address all the concerns raised in the protests.

FERC conferences are accessible under section 508 of the Rehabilitation Act of 1973. For accessibility accommodations please send an email to accessibility@ferc.gov or call toll free (866) 208-3372 (voice) or 202-502-8659 (TTY), or send a fax to 202-208-2106 with the required accommodations.

All interested persons are permitted to attend. For further information please contact Anna Fernandez at (202) 502-6682 or email Anna.Fernandez@ferc.gov.

Dated: January 30, 2014.
Kimberly D. Bose,
Secretary.

[FR Doc. 2014-02487 Filed 2-5-14; 8:45 am]

BILLING CODE 6717-01-P